DEPARTMENT OF DEFENSE

GENERAL SERVICES ADMINISTRATION

NATIONAL AERONAUTICS AND SPACE ADMINISTRATION

48 CFR Parts 4, 5, 9, 18, 27, and 52

[FAC 2020-07; Item VI; Docket No. FAR-2020-0052; Sequence No. 2]

Federal Acquisition Regulation; Technical Amendments

AGENCY: Department of Defense (DoD), General Services Administration (GSA), and National Aeronautics and Space Administration (NASA).

ACTION: Final rule.

SUMMARY: This document makes amendments to the Federal Acquisition Regulation (FAR) in order to make needed editorial changes.

DATES: Effective: July 2, 2020.

FOR FURTHER INFORMATION CONTACT: Ms. Lois Mandell, Regulatory Secretariat Division (MVCB), at 202-501-4755 or GSARegSec@gsa.gov. Please cite FAC 2020-07, Technical Amendments.

SUPPLEMENTARY INFORMATION: In order to update certain elements in 48 CFR parts 5, 9, 27, and 52 this document makes editorial changes to the FAR.

List of Subjects in 48 CFR Parts 4, 5, 9, 18, 27, and 52

Government procurement.

William F. Clark,
Director, Office of Government-wide Acquisition Policy, Office of Acquisition Policy, Office of Government-wide Policy.

Therefore, DoD, GSA, and NASA amend 48 CFR parts 4, 5, 9, 18, 27, and 52 as set forth below:

1. The authority citation for 48 CFR parts 4, 5, 9, 18, 27, and 52 continues to read as follows:

Authority: 40 U.S.C. 121(c); 10 U.S.C. chapter 137; and 51 U.S.C. 20113.

PART 4—ADMINISTRATIVE AND INFORMATION MATTERS

4.1603 [Amended]

2. In section 4.1603 amend paragraph (a)(1) by removing “http://www.gsa.gov/graphics/fas/Civilian__contacts.pdf” and adding “https://community.max.gov/x/24foL” in its place.

PART 5—PUBLICIZING CONTRACT ACTIONS

5.205 [Amended]

3. In section 5.205 amend paragraph (f) by removing “national buy”.

PART 9—CONTRACTOR QUALIFICATIONS

9.109-4 [Amended]

4. Amend section 9.109-4 in paragraph (a)(1)(i) by removing “https://www.state.gov/t/avc/rls/rpt/” and adding “https://www.state.gov/bureaus-offices/under-secretary-for-arms-control-and-international-security-affairs/bureau-of-arms-control-verification-and-compliance/” in its place.

PART 18—EMERGENCY ACQUISITIONS

18.205 [Amended]

5. In section 18.205 amend paragraph (a) by removing “http://www.fema.gov/emergency/nrf/” and adding “https://www.fema.gov/media-library/assets/documents/117791” in its place.

PART 27—PATENTS, DATA, AND COPYRIGHTS

27.405-3 [Amended]

6. In section 27.405-3 amend paragraph (b) by removing “with paragraph (a)(1) of” and adding “with paragraph (a) of” in its place.

PART 52—SOLICITATION PROVISIONS AND CONTRACT CLAUSES

7. Amend section 52.209-13 by:

a. Revising the date of the provision; and

b. Removing from paragraphs (b)(1)(i) and (ii) “https://www.state.gov/t/avc/rls/rpt/” and adding “https://www.state.gov/bureaus-offices/under-secretary-for-arms-control-and-international-security-affairs/bureau-of-arms-control-verification-and-compliance/” in its place.

The revision reads as follows:

Violation of Arms Control Treaties or Agreements—Certification

Violation of Arms Control Treaties or Agreements—Certification (JUL 2020)

* * * * *

8. Amend section 52.212-5 by—

a. Revising the date of the clause;

b. Removing from paragraph (b)(14)(ii) “(MAR 2020)” and adding “(MAR 2020) of 52.219-6” in its place;

c. Redesignating paragraph (b)(18) as (b)(18)(i) and adding (b)(18)(ii);

d. Removing from paragraph (b)(22)(i) “(MAR 2020)” and adding “(MAY 2020)” in its place; and

e. Removing from paragraph (b)(42) “(DEC 2007)” and adding “(MAY 2020)” in its place.

The addition reads as follows:

52.212-5 Contract Terms and Conditions Required To Implement Statutes or Executive Orders—Commercial Items.

* * * * *

Contract Terms and Conditions Required To Implement Statutes or Executive Orders—Commercial Items (JUL 2020)

* * * * *

(b) * * *

__(18) * * *

__(ii) Alternate I (MAR 2020) of 52.219-13.

* * * * *

[FR Doc. 2020-12757 Filed 7-1-20; 8:45 am]

BILLING CODE 6820-EP-P